MERIT SYSTEMS PROTECTION BOARD

5 CFR Part 1201

Practices and Procedures

AGENCY: Merit Systems Protection Board.

ACTION: Final rule.

SUMMARY: The Merit Systems Protection Board (MSPB or the Board) is amending its rules of practice and procedure in this part to reflect the relocation of its Washington Regional Office. On September 11, 2000, the Board relocated its Washington Regional Office from 5203 Leesburg Pike, Falls Church, Virginia, to 1800 Diagonal Road, Alexandria, Virginia. Appendix II of this part is amended to show the new address. The facsimile number and the geographical areas served by the Washington Regional Office are unchanged.

EFFECTIVE DATE: October 3, 2000.

FOR FURTHER INFORMATION CONTACT: Robert E. Taylor, Clerk of the Board, (202) 653-7200.

The Board is publishing this rule as a final rule pursuant to 5 U.S.C. 1204(h).

List of Subjects in 5 CFR Part 1201.

Administrative practice and procedure, Civil rights, Government employees.

Accordingly, the Board amends 5 CFR part 1201 as follows:

PART 1201—PRACTICES AND PROCEDURES

1. The authority citation for part 1201 continues to read as follows:

Authority: 5 U.S.C. 1204 and 7701, unless otherwise noted.

2. Amend Appendix II to 5 CFR part 1201 in item 4. by removing “5203 Leesburg Pike, Suite 1109, Falls Church, Virginia 22041-3473” and adding, in its place “1800 Diagonal Road, Alexandria, Virginia 22314”.

Dated: September 27, 2000.
Robert E. Taylor,
Clerk of the Board.

[FR Doc. 00-25282 Filed 10-2-00; 8:45 am]

BILLING CODE 7400-01-P